DEPARTMENT OF ENERGY

Federal Energy Regulatory Commission

[Docket No. AD14-14-000]

Price Formation in Energy and Ancillary; Services Markets Operated by Regional Transmission; Organizations and Independent System Operators; Notice of Filing

Take notice that PJM Interconnection, L.L.C., Midcontinent Independent System Operator, Inc., ISO New England, Inc., New York Independent System Operator, Inc., Southwest Power Pool, Inc., and the California Independent System Operator Corporation (collectively, RTOs/ISOs), each separately, filed reports in response to the Order Directing Reports issued by the Commission on November 20, 2015.¹ In the Order Directing Reports, the Commission established that public comment in response to the RTOs/ISOs' reports may be submitted within 30 days of the filing of the reports.² Upon consideration, public comment in response to all of the RTOs/ISOs' reports may be submitted by 5:00 p.m. Eastern Time on April 6, 2016.

¹ Price Formation in Energy and Ancillary Services Markets Operated by Regional Transmission Organizations and Independent System Operators, 153 FERC ¶ 61,221 (2015) (Order Directing Reports).

² Id. P 7.

The Commission encourages electronic submission of comments in lieu of paper using the “eFiling” link at http://www.ferc.gov. Persons unable to file electronically should submit an original and five copies of their comments to the Federal Energy Regulatory Commission, 888 First Street NE., Washington, DC 20426.

This filing is accessible on-line at http://www.ferc.gov, using the “eLibrary” link and is available for electronic review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on April 6, 2016.

Dated: March 7, 2016.
Nathaniel J. Davis, Sr.,
Deputy Secretary.

[FR Doc. 2016-05500 Filed 3-10-16; 8:45 am]

BILLING CODE 6717-01-P